DEPARTMENT OF ENERGY

[Number DE-PS07-03ID14488]

Advanced Melting or Innovative Casting Processes for Metal Casting

AGENCY: Idaho Operations Office, DOE.

ACTION: Notice of availability of financial assistance solicitation.

SUMMARY: The U.S. Department of Energy (DOE), Idaho Operations Office (ID) is seeking applications for advanced melting or innovative casting processes that have the potential to significantly improve energy efficiency in the areas of metal melting and the casting process. DOE is very interested in funding innovative, cost effective ideas that will reduce energy consumption. Crosscutting ideas from other industries or ideas that have crosscutting applications are also strongly encouraged. Advanced aluminum remelting furnace concepts are also of interest in this solicitation. Proposals dealing with product development R&D will not be funded. Proposals must address energy efficiencies in metal casting manufacturing not in the end-use applications.

DATES: The issuance date of Solicitation Number DE-PS07-03ID14488 will be on or about March 31, 2003. The deadline for receipt of applications will be approximately on May 30, 2003.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov

FOR FURTHER INFORMATION CONTACT: Seb Klein, Contract Specialist, kleinsm@id.doe.gov.

SUPPLEMENTARY INFORMATION: DOE anticipates making 1 to 4 cooperative agreement(s) with duration of 3 years or less for these efforts. A minimum 50% non-federal cost share is required for research and development projects over the life of the project. First year cost share can be as low as 30% if subsequent years have sufficient cost share so that non-federal share totals at least 50%. However, it is important to note that in the event a multi-year project is not continued, then the awardee will be required to increase the cost share to meet the 50% requirement. The statutory authority for this program is the Federal Non-Nuclear Energy Research and Development Act of 1974 (Pub. L. 93-577). The Catalog of Federal Domestic Assistance (CFDA) Number for this program is 81.086.

Issued in Idaho Falls on March 26, 2003.
Cheryl A. Thompson,
Acting Director, Procurement Services Division.

[FR Doc. 03-7925 Filed 4-1-03; 8:45 am]

BILLING CODE 6450-01-P